DEPARTMENT OF ENERGY

Federal Energy Regulatory Commission

Combined Notice of Filings #1

June 17, 2010.

Take notice that the Commission received the following electric rate filings:

Docket Numbers: ER97-4143-023; ER98-2075-028; ER98-542-025; ER07-1130-005.

Applicants: American Electric Power Service Corporation; CSW Energy Services, Inc.; Central & South West Services, Inc.; AEP Energy Partners, Inc.

Description: Notice of Change in Status of American Electric Power Service Corporation.

Filed Date: 06/17/2010.

Accession Number: 20100617-5085.

Comment Date: 5 p.m. Eastern Time on Thursday, July 08, 2010.

Docket Numbers: ER10-765-000.

Applicants: California Independent System Operator Corporation.

Description: California Independent System Operator Corp's Response to the April 16, 2010 Letter requesting additional information regarding Proxy Demand Resource Tariff Amendment.

Filed Date: 05/17/2010.

Accession Number: 20100518-0003.

Comment Date: 5 p.m. Eastern Time on Monday, June 28, 2010.

Docket Numbers: ER10-1264-000.

Applicants: Arizona Public Service Company.

Description: Arizona Public Service Company submits an informational filing of its Annual Update of transmission service rates pursuant to the APS Open Access Transmission Tariff.

Filed Date: 05/17/2010.

Accession Number: 20100517-5061.

Comment Date: 5 p.m. Eastern Time on Thursday, June 24, 2010.

Docket Numbers: ER10-1452-000.

Applicants: Vitol Inc.

Description: Application of Vitol Inc for order accepting initial rate schedule, waiving regulations and granting blanket approvals.

Filed Date: 06/15/2010.

Accession Number: 20100616-0202.

Comment Date: 5 p.m. Eastern Time on Tuesday, July 06, 2010.

Docket Numbers: ER10-1462-000.

Applicants: Dominion Energy Brayton Point, LLC.

Description: Dominion Energy Brayton Point, LLC submits tariff filing per 35.12: Baseline, to be effective 6/30/2010.

Filed Date: 06/17/2010.

Accession Number: 20100617-5000.

Comment Date: 5 p.m. Eastern Time on Thursday, July 08, 2010.

Docket Numbers: ER10-1465-000.

Applicants: Tampa Electric Company.

Description: Tampa Electric Company submits tariff filing per 35.12: Baseline—All Requirements to be effective 6/17/2010.

Filed Date: 06/17/2010.

Accession Number: 20100617-5021.

Comment Date: 5 p.m. Eastern Time on Thursday, July 08, 2010.

Docket Numbers: ER10-1467-000.

Applicants: Ohio Edison Company.

Description: Ohio Edison Company submits tariff filing per 35: Compliance Baseline Filing to be effective 6/17/2010.

Filed Date: 06/17/2010.

Accession Number: 20100617-5056.

Comment Date: 5 p.m. Eastern Time on Thursday, July 08, 2010.

Docket Numbers: ER10-1468-000.

Applicants: The Toledo Edison Company.

Description: The Toledo Edison Company submits tariff filing per 35: Compliance Baseline Filing to be effective 6/17/2010.

Filed Date: 06/17/2010.

Accession Number: 20100617-5057.

Comment Date: 5 p.m. Eastern Time on Thursday, July 08, 2010.

Docket Numbers: ER10-1469-000.

Applicants: The Cleveland Electric Illuminating Comp.

Description: The Cleveland Electric Illuminating Company submits tariff filing per 35.12: MBR Baseline Filing to be effective 6/17/2010.

Filed Date: 06/17/2010.

Accession Number: 20100617-5060.

Comment Date: 5 p.m. Eastern Time on Thursday, July 08, 2010.

Docket Numbers: ER10-1473-000.

Applicants: Pennsylvania Power Company.

Description: Pennsylvania Power Company submits tariff filing per 35: Compliance Baseline Filing to be effective 6/17/2010.

Filed Date: 06/17/2010.

Accession Number: 20100617-5094.

Comment Date: 5 p.m. Eastern Time on Thursday, July 08, 2010.

Docket Numbers: ER10-1474-000.

Applicants: Metropolitan Edison Company.

Description: Metropolitan Edison Company submits tariff filing per 35: Compliance Baseline filing to be effective 6/17/2010.

Filed Date: 06/17/2010.

Accession Number: 20100617-5098.

Comment Date: 5 p.m. Eastern Time on Thursday, July 08, 2010.

Take notice that the Commission received the following electric reliability filings:

Docket Numbers: RR10-11-000.

Applicants: North American Electric Reliability Corporation.

Description: Supplement to North American Electric Reliability Corporation Petition for Approval of Revised Pro Forma Delegation Agreement, Revised Delegation Agreements with the Eight Regional Entities, and Amendments to the NERC Rules of Procedure.

Filed Date: 06/17/2010.

Accession Number: 20100617-5091.

Comment Date: 5 p.m. Eastern Time on Friday, July 09, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-15374 Filed 6-24-10; 8:45 am]

BILLING CODE 6717-01-P